DEPARTMENT OF TRANSPORTATION

Federal Aviation Administration

14 CFR Part 39

[Docket No. 99-NM-379-AD]

RIN 2120-AA64

Airworthiness Directives; Airbus Model A330 and A340 Series Airplanes

AGENCY: Federal Aviation Administration, DOT.

ACTION: Notice of proposed rulemaking (NPRM).

SUMMARY: This document proposes the adoption of a new airworthiness directive (AD) that is applicable to certain Airbus Model A330 and A340 series airplanes. This proposal would require revising the Airplane Flight Manual to include new flight operational procedures for the fuel system; repetitive inspections of the trim transfer fuel line in the vicinity of the aft pressure bulkhead located between frame (FR) 77 and FR86 to detect any discrepancy; and corrective actions, if necessary. This proposal also would require modification of the air release valve in the fuel trim tank transfer system, which would constitute terminating action for the requirements of this AD. This proposal is prompted by issuance of mandatory continuing airworthiness information by a foreign civil airworthiness authority. This action is necessary to prevent damage to the fuel trim transfer system, which could cause rupture of the trim transfer fuel line due to pressure build-up, and result in fuel leakage from that fuel line. This action is intended to address the identified unsafe condition.

DATES: Comments must be received by July 28, 2000.

ADDRESSES: Submit comments in triplicate to the Federal Aviation Administration (FAA), Transport Airplane Directorate, ANM-114, Attention: Rules Docket No. 99-NM-379-AD, 1601 Lind Avenue, SW., Renton, Washington 98055-4056. Comments may be inspected at this location between 9:00 a.m. and 3:00 p.m., Monday through Friday, except Federal holidays. Comments may also be sent via the Internet using the following address: 9-anm-nprmcomment@faa.gov. Comments sent via the Internet must contain “Docket No. 99-NM-379-AD” in the subject line and need not be submitted in triplicate. Comments sent via the Internet as attached electronic files must be formatted in Microsoft Word 97 for Windows or ASCII text.

The service information referenced in the proposed rule may be obtained from Airbus Industrie, 1 Rond Point Maurice Bellonte, 31707 Blagnac Cedex, France. This information may be examined at the FAA, Transport Airplane Directorate, 1601 Lind Avenue, SW., Renton, Washington.

FOR FURTHER INFORMATION CONTACT: Norman B. Martenson, Manager, International Branch, ANM-116, FAA, Transport Airplane Directorate, 1601 Lind Avenue, SW., Renton, Washington 98055-4056; telephone (425) 227-2110; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this notice may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this notice must submit a self-addressed, stamped postcard on which the following statement is made: “Comments to Docket Number 99-NM-379-AD.” The postcard will be date stamped and returned to the commenter.

Availability of NPRMs

Any person may obtain a copy of this NPRM by submitting a request to the FAA, Transport Airplane Directorate, ANM-114, Attention: Rules Docket No. 99-NM-379-AD, 1601 Lind Avenue, SW., Renton, Washington 98055-4056.

Discussion

The Direction Geénérale de l'Aviation Civile (DGAC), which is the airworthiness authority for France, notified the FAA that an unsafe condition may exist on certain Airbus Model A330 and A340 series airplanes. Reports of findings indicate damaged fuel pipe shrouds on the trim transfer fuel line, in the vicinity of the aft pressure bulkhead located between frame (FR) 77 and FR86. Another report indicated that the fuel pipe also was damaged and that fuel leaked into the area behind the bulk cargo compartment. Such damage is considered to be caused by excessive build-up of pressure in the trim transfer fuel line. The DGAC advises that installation of two additional pressure relief valves on the fuel line in the trim tank will prevent damage to the trim transfer fuel system. Such damage, if not corrected, could cause rupture of the trim transfer fuel line due to pressure build-up, and result in fuel leaking from that line into the area behind the bulk cargo compartment.

Explanation of Relevant Service Information

Airbus has issued the following service bulletins:

• A330-28-3060, Revision 02, including Appendix 01 (for Airbus Model A330 series airplanes); and A340-28-4077, Revision 02, including Appendix 01 (for Airbus Model A340 series airplanes); both dated May 27, 1999. These service bulletins describe procedures for repetitive detailed visual inspections of the trim transfer fuel line in the vicinity of the aft pressure bulkhead located between FR77 and FR86 to detect any discrepancy; and corrective actions, if necessary. Discrepancies include deformation, dents, kinks, and broken rivets of the fuel pipe and the pipe clamp, support bracket, and shroud. Corrective actions include the replacement of discrepant components such as the fuel pipe, pipe clamps, pipe support brackets, and pipe shrouds of the trim transfer fuel line; and temporary deactivation of the trim fuel pipe isolation valve and auxiliary power unit (APU) isolation valve.

• A330-28-3063 (for Airbus Model A330 series airplanes), and A340-28-4079 (for Airbus Model A340 series airplanes); both dated October 6, 1999. These service bulletins describe procedures for modifying the air release valve (ARV) in the trim transfer system. Such modification includes cleaning and lubricating certain components, installing an adapter, and installing two additional pressure relief valves on a spacer/adapter located between the air release elbow and the ARV.

Airbus also has issued the following Temporary Revisions (TR) to the Normal Procedures Section of the FAA-approved Airbus A330 and A340 Airplane Flight Manuals (AFM), which include new flight operational procedures for the fuel system:

• TR 4.03.00/09, TR 4.03.00/10, and TR 4.03.00/12 (for Model A330 series airplanes), all dated July 23, 1999.

• TR 4.03.00/20 (for Model A340 series airplanes), dated July 23, 1999.

Accomplishment of the actions specified in the service bulletins and TR's is intended to adequately address the identified unsafe condition. The DGAC classified Airbus Service Bulletin A330-28-3060 and A340-28-4077 as mandatory and issued the following French airworthiness directives in order to assure the continued airworthiness of these airplanes in France.

• 1999-046-091(B), Revision 4, dated December 15, 1999 (for Model A330 series airplanes).

• 1999-045-111(B), Revision 4, dated December 15, 1999 (for Model A340 series airplanes.

FAA's Conclusions

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of Proposed Rule

Since an unsafe condition has been identified that is likely to exist or develop on other airplanes of the same type design registered in the United States, the proposed AD would require accomplishment of the actions specified in the service bulletins described previously, except as discussed below.

Difference Between Proposed Rule and Relevant Service Information

Airbus Service Bulletin A330-28-3060, Revision 02, and A340-28-4077, Revision 02, both dated May 27, 1999, specify certain actions following deactivation of the trim fuel pipe isolation valve and the APU isolation valve. Those actions include replacing the fuel pipe and pipe shroud and reactivating the trim fuel pipe isolation valve and the APU isolation valve “at the next convenient opportunity.”

The FAA does not agree with allowing the trim fuel pipe isolation valve to be deactivated with no definitive time specified for replacement and reactivation. Instead, this AD would allow deactivation of the valve for a limited period of time (10 days) in accordance with the FAA-approved Master Minimum Equipment List, after which time the replacement and reactivation is required prior to further flight.

Differences Between Proposed Rule and the French Airworthiness Directives

The proposed AD would differ from the parallel French airworthiness directives in that it would mandate the accomplishment of the terminating action for the repetitive inspections and AFM revisions. The French airworthiness directives provide for the terminating action as optional.

Mandating the terminating action is based on the FAA's determination that long-term continued operational safety will be better assured by modifications or design changes to remove the source of the problem, rather than by repetitive inspections. Long-term inspections may not be providing the degree of safety assurance necessary for the transport airplane fleet. This, coupled with a better understanding of the human factors associated with numerous continual inspections, has led the FAA to consider placing less emphasis on inspections and more emphasis on design improvements. The proposed modification requirement is consistent with these conditions.

Cost Impact

The FAA estimates that 3 Airbus Model A330 series airplanes of U.S. Registry would be affected by this proposed AD.

It would require approximately 1 work hour to accomplish the revision to the AFM, at an average labor rate of $60 per work hour. Based on this figure, the cost impact of the AFM revision proposed by this AD action would be $180, or $60 per airplane.

It would require approximately 2 work hours to accomplish each inspection, at an average labor rate of $60 per work hour. Based on this figure, the cost impact of each inspection proposed by this AD action would be $360, or $120 per airplane.

It would require approximately 3 work hours to accomplish the installation of the additional pressure relief valves in the fuel trim tank, at an average labor rate of $60 per work hour. Based on this figure, the cost impact of the installation proposed by this AD action would be $540, or $180 per airplane.

The cost impact figures discussed above are based on assumptions that no operator has yet accomplished any of the proposed requirements of this AD action, and that no operator would accomplish those actions in the future if this AD were not adopted.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Airbus Industrie: Docket 99-NM-379-AD.

Applicability: Model A330 and A340 series airplanes, certificated in any category, except those airplanes on which Airbus Modification 47293 has been installed in production, or on which the modification has been accomplished in accordance with Airbus Service Bulletin A330-28-3063 or A340-28-4079, both dated October 6, 1999, as applicable.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To prevent damage to the trim transfer fuel system, which could cause rupture of the trim transfer fuel line due to pressure build-up, and result in fuel leakage from that line; accomplish the following:

Airplane Flight Manual Revision

(a) Within 10 days after the effective date of this AD, revise the Limitations and Normal Procedures section of the FAA-approved Airplane Flight Manual (AFM) to include the information specified in Airbus Temporary Revision (TR) 4.03.00/09, TR 4.03.00/10, and TR 4.03.00/12 (for Model A330 series airplanes); or TR 4.03.00/20 (for Model A340 series airplanes); all dated July 23, 1999; as applicable.

Note 2: The AFM revision required by paragraph (a) of this AD may be accomplished by inserting a copy of the applicable TR into the applicable section of the AFM. When the temporary revisions required by paragraph (a) of this AD have been incorporated into the general revisions of the AFM, the general revisions may be inserted into the AFM, provided that the information contained in the general revisions is identical to that specified in the temporary revisions.

Inspections

(b) Within 1,000 flight hours after the effective date of this AD, perform a detailed visual inspection of the trim transfer fuel line in the vicinity of the aft pressure bulkhead located between frame (FR) 77 and FR86 to detect any discrepancy (including deformation, dents, kinks, and broken rivets of the fuel pipe and pipe clamp, support bracket, and shroud) in accordance with the Accomplishment Instructions of Airbus Service Bulletin A330-28-3060, Revision 02 (for Model A330 series airplanes), or A340-28-4077, Revision 02 (for Model A340 series airplanes), both dated May 27, 1999, as applicable. Repeat the inspection thereafter at intervals not to exceed 1,000 flight hours until the modification required by paragraph (c) of this AD has been accomplished.

Note 3: Inspections accomplished prior to the effective date of this AD in accordance with Operator Information Telex/Flight Operations Telex (OIT/FOT) 999.0142/98, dated December 23, 1998, are considered acceptable for compliance with the INITIAL detailed visual inspection required by paragraph (b) of this AD.

Corrective Actions

(1) If any discrepancy is detected during any inspection required by paragraph (b) of this AD, prior to further flight, accomplish applicable corrective actions [including replacement of any damaged components and deactivation of the trim fuel pipe isolation valve and auxiliary power unit (APU) isolation valve] in accordance with the Accomplishment Instructions and Figure 2 of the applicable service bulletin.

Replacement of Pipe Shroud and Pipe

(2) If the isolation valves of the trim fuel pipe and APU are deactivated in accordance with the FAA-approved Master Minimum Equipment List during accomplishment of the corrective actions required by paragraph (b)(1) of this AD: Within 10 days after deactivation, replace the pipe shroud and pipe, as applicable, and reactivate the valves, in accordance with the applicable service bulletin.

Terminating Action

(c) Within 18 months after the effective date of this AD, modify the air release valve (ARV) in the trim tank system (including cleaning and lubricating certain components, installing two additional pressure relief valves, and installing the adapter and ARV) in accordance with the Accomplishment Instructions of Airbus Service Bulletin A330-28-3063 or A340-28-4079, both dated October 6, 1999, as applicable. Accomplishment of such modification constitutes terminating action for the AFM revisions and the repetitive inspections required by this AD.

Alternative Methods of Compliance

(d) An alternative method of compliance or adjustment of the compliance time that provides an acceptable level of safety may be used if approved by the Manager, International Branch, ANM-116, FAA, Transport Airplane Directorate. Operators shall submit their requests through an appropriate FAA Principal Maintenance Inspector, who may add comments and then send it to the Manager, International Branch, ANM-116.

Note 4: Information concerning the existence of approved alternative methods of compliance with this AD, if any, may be obtained from the International Branch, ANM-116.

Special Flight Permits

(e) Special flight permits may be issued in accordance with §§ 21.197 and 21.199 of the Federal Aviation Regulations (14 CFR 21.197 and 21.199) to operate the airplane to a location where the requirements of this AD can be accomplished.

Note 5: The subject of this AD is addressed in French airworthiness directives 1999-046-091(B), Revision 4 (for Model A330 series airplanes), and 1999-045-111(B), Revision 4 (for Model A340 series airplanes), both dated December 15, 1999.

Issued in Renton, Washington, on June 22, 2000.
Donald L. Riggin,
Acting Manager, Transport Airplane Directorate, Aircraft Certification Service.

[FR Doc. 00-16360 Filed 6-27-00; 8:45 am]

BILLING CODE 4910-13-U